DEPARTMENT OF HOMELAND SECURITY

Federal Emergency Management Agency

[Docket ID FEMA-2016-0002; Internal Agency Docket No. FEMA-B-1618]

Changes in Flood Hazard Determinations

AGENCY: Federal Emergency Management Agency, DHS.

ACTION: Notice.

SUMMARY: This notice lists communities where the addition or modification of Base Flood Elevations (BFEs), base flood depths, Special Flood Hazard Area (SFHA) boundaries or zone designations, or the regulatory floodway (hereinafter referred to as flood hazard determinations), as shown on the Flood Insurance Rate Maps (FIRMs), and where applicable, in the supporting Flood Insurance Study (FIS) reports, prepared by the Federal Emergency Management Agency (FEMA) for each community, is appropriate because of new scientific or technical data. The FIRM, and where applicable, portions of the FIS report, have been revised to reflect these flood hazard determinations through issuance of a Letter of Map Revision (LOMR), in accordance with Title 44, part 65 of the Code of Federal Regulations (44 CFR part 65). The LOMR will be used by insurance agents and others to calculate appropriate flood insurance premium rates for new buildings and the contents of those buildings. For rating purposes, the currently effective community number is shown in the table below and must be used for all new policies and renewals.

DATES: These flood hazard determinations will become effective on the dates listed in the table below and revise the FIRM panels and FIS report in effect prior to this determination for the listed communities.

From the date of the second publication of notification of these changes in a newspaper of local circulation, any person has 90 days in which to request through the community that the Deputy Associate Administrator for Mitigation reconsider the changes. The flood hazard determination information may be changed during the 90-day period.

ADDRESSES: The affected communities are listed in the table below. Revised flood hazard information for each community is available for inspection at both the online location and the respective community map repository address listed in the table below. Additionally, the current effective FIRM and FIS report for each community are accessible online through the FEMA Map Service Center at www.msc.fema.gov for comparison.

Submit comments and/or appeals to the Chief Executive Officer of the community as listed in the table below.

FOR FURTHER INFORMATION CONTACT: Rick Sacbibit, Chief, Engineering Services Branch, Federal Insurance and Mitigation Administration, FEMA, 500 C Street SW., Washington, DC 20472, (202) 646-7659, or (email) patrick.sacbibit@fema.dhs.gov; or visit the FEMA Map Information eXchange (FMIX) online at www.floodmaps.fema.gov/fhm/fmx_main.html.

SUPPLEMENTARY INFORMATION: The specific flood hazard determinations are not described for each community in this notice. However, the online location and local community map repository address where the flood hazard determination information is available for inspection is provided.

Any request for reconsideration of flood hazard determinations must be submitted to the Chief Executive Officer of the community as listed in the table below.

The modifications are made pursuant to section 201 of the Flood Disaster Protection Act of 1973, 42 U.S.C. 4105, and are in accordance with the National Flood Insurance Act of 1968, 42 U.S.C. 4001 et seq., and with 44 CFR part 65.

The FIRM and FIS report are the basis of the floodplain management measures that the community is required either to adopt or to show evidence of having in effect in order to qualify or remain qualified for participation in the National Flood Insurance Program (NFIP).

These flood hazard determinations, together with the floodplain management criteria required by 44 CFR 60.3, are the minimum that are required. They should not be construed to mean that the community must change any existing ordinances that are more stringent in their floodplain management requirements. The community may at any time enact stricter requirements of its own or pursuant to policies established by other Federal, State, or regional entities. The flood hazard determinations are in accordance with 44 CFR 65.4.

The affected communities are listed in the following table. Flood hazard determination information for each community is available for inspection at both the online location and the respective community map repository address listed in the table below. Additionally, the current effective FIRM and FIS report for each community are accessible online through the FEMA Map Service Center at www.msc.fema.gov for comparison.

(Catalog of Federal Domestic Assistance No. 97.022, “Flood Insurance.”)

Dated: April 12, 2016.
Roy E. Wright,
Deputy Associate Administrator for Insurance and Mitigation, Department of Homeland Security, Federal Emergency Management Agency.

State and county | Location and case No. | Chief executive officer of community | Community map repository | Online location of letter of map revision | Effective date of modification | Community No.
Alabama: Coffee | City of Enterprise (15-04-A168P) | The Honorable Kenneth W. Boswell, Mayor, City of Enterprise, P.O. Box 311000, Enterprise, AL 36330 | City Hall, 501 South Main Street, Enterprise, AL 36331 | http://www.msc.fema.gov/lomc | Jul. 11, 2016 | 010045
Arkansas: Benton | Unincorporated areas of Benton County (15-06-4245P) | The Honorable Robert D. Clinard, Benton County Judge, 215 East Central Avenue, Bentonville, AR 72712 | Benton County, Planning Department, 905 Northwest 8th Street, Bentonville, AR 72712 | http://www.msc.fema.gov/lomc | Jul. 20, 2016 | 050419
Colorado:
Boulder | City of Boulder (15-08-0360P) | The Honorable Suzanne Jones, Mayor, City of Boulder, P.O. Box 791, Boulder, CO 80306 | Planning and Development Services Department, 1739 Broadway Street, Boulder, CO 80302 | http://www.msc.fema.gov/lomc | Jul. 22, 2016 | 080024
Jefferson | Unincorporated areas of Jefferson County (15-08-0540P) | The Honorable Casey Tighe, Chairman, Jefferson County Board of Commissioners, 100 Jefferson County Parkway, Golden, CO 80419 | Jefferson County Department of Planning and Zoning, 100 Jefferson County Parkway, Golden, CO 80419 | http://www.msc.fema.gov/lomc | Jul. 22, 2016 | 080087
Weld | City of Greeley (15-08-0573P) | The Honorable Tom Norton, Mayor, City of Greeley, 1000 10th Street, Greeley, CO 80631 | City Hall, 1000 10th Street, Greeley, CO 80631 | http://www.msc.fema.gov/lomc | Jul. 14, 2016 | 080184
Weld | Unincorporated areas of Weld County (15-08-0573P) | The Honorable Mike Freeman, Chairman, Weld County Board of Commissioners, P.O. Box 758, Greeley, CO 80632 | Weld County Planning and Zoning Department, 1555 North 17th Avenue, Greeley, CO 80631 | http://www.msc.fema.gov/lomc | Jul. 14, 2016 | 080266
District of Columbia | District of Columbia (16-03-0242P) | The Honorable Muriel Bowser, Mayor, District of Columbia, 1350 Pennsylvania Avenue Northwest, Washington, DC 20004 | Department of Energy and Environment, 1200 1st Street Northeast, 5th Floor, Washington, DC 20002 | http://www.msc.fema.gov/lomc | Jul. 28, 2016 | 110001
Florida:
Broward | City of Fort Lauderdale (15-04-7586P) | The Honorable John P. Seiler, Mayor, City of Fort Lauderdale, 100 North Andrews Avenue, 8th Floor, Fort Lauderdale, FL 33301 | Building Services Department, 700 Northwest 19th Avenue, Plantation, FL 33311 | http://www.msc.fema.gov/lomc | Jul. 14, 2016 | 125105
Broward | Unincorporated areas of Broward County (15-04-7586P) | Ms. Bertha Henry, Broward County Administrator, 115 South Andrews Avenue, Fort Lauderdale, FL 33301 | Broward County Environmental Licensing and Building Permitting Division, 1 North University Drive, Fort Lauderdale, FL 33311 | http://www.msc.fema.gov/lomc | Jul. 14, 2016 | 125093
Indian River | City of Vero Beach (16-04-2464P) | The Honorable Jay Kramer, Mayor, City of Vero Beach, 1053 20th Place, Vero Beach, FL 32960 | City Hall, 1053 20th Place, Vero Beach, FL 32960 | http://www.msc.fema.gov/lomc | Jul. 26, 2016 | 120124
Lake | Unincorporated areas of Lake County (15-04-2425P) | The Honorable Sean Parks, Chairman, Lake County Board of Commissioners, P.O. Box 7800, Tavares, FL 32778 | Lake County Public Works Department, 323 North Sinclair Avenue, Tavares, FL 32778 | http://www.msc.fema.gov/lomc | Jul. 25, 2016 | 120421
Miami-Dade | City of Miami (16-04-1012P) | The Honorable Tomás P. Regalado, Mayor, City of Miami, 3500 Pan American Drive, Miami, FL 33133 | Emergency Management Department, 444 Southwest 2nd Avenue, 10th Floor, Miami, FL 33130 | http://www.msc.fema.gov/lomc | Jul. 29, 2016 | 120650
Osceola | City of Kissimmee (14-04-A515P) | The Honorable Jim Swan, Mayor, City of Kissimmee, 101 Church Street, Kissimmee, FL 34741 | Engineering Department, 101 Church Street, Kissimmee, FL 34741 | http://www.msc.fema.gov/lomc | Jul. 27, 2016 | 120190
Osceola | Unincorporated areas of Osceola County (14-04-A515P) | The Honorable Viviana Janer, Chair, Osceola County Board of Commissioners, 1 Courthouse Square, Suite 4700, Kissimmee, FL 34741 | Osceola County Stormwater Department, 1 Courthouse Square, Suite 3100, Kissimmee, FL 34741 | http://www.msc.fema.gov/lomc | Jul. 27, 2016 | 120189
St. Lucie | City of Fort Pierce (16-04-2206P) | The Honorable Linda Hudson, Mayor, City of Fort Pierce, 100 North U.S. Highway 1, Fort Pierce, FL 34950 | Building Department, 100 North U.S., Highway 1, Fort Pierce, FL 34950 | http://www.msc.fema.gov/lomc | Jul. 26, 2016 | 120286
St. Lucie | Unincorporated areas of St. Lucie County (16-04-2206P) | The Honorable Kim Johnson, Chairman, St. Lucie County Board of Commissioners, 2300 Virginia Avenue, Fort Pierce, FL 34982 | St. Lucie County Planning and Development Department, 2300 Virginia Avenue, Fort Pierce, FL 34982 | http://www.msc.fema.gov/lomc | Jul. 26, 2016 | 120285
Georgia: Chatham | City of Pooler (16-04-1717P) | The Honorable Mike Lamb, Mayor, City of Pooler, 100 Southwest Highway 80, Pooler, GA 31322 | Zoning Administration Division, 100 Southwest, Highway 80, Pooler, GA 31322 | http://www.msc.fema.gov/lomc | Jul. 13, 2016 | 130261
Kentucky:
Hardin | City of Elizabethtown (15-04-9058P) | The Honorable Edna Berger, Mayor, City of Elizabethtown, P.O. Box 550, Elizabethtown, KY 42702 | City Hall, 200 West Dixie Avenue, Elizabethtown, KY 42701 | http://www.msc.fema.gov/lomc | Jul. 19, 2016 | 210095
Hardin | Unincorporated areas of Hardin County (15-04-9058P) | The Honorable Harry L. Berry, Hardin County Judge/Executive, P.O. Box 568, Elizabethtown, KY 42702 | Hardin County Planning and Development Commission, 150 North Provident Way, Suite 225, Elizabethtown, KY 42701 | http://www.msc.fema.gov/lomc | Jul. 19, 2016 | 210094
Louisiana: East Baton Rouge | City of Central (15-06-4438P) | The Honorable Jr. Shelton, Mayor, City of Central, 13421 Hooper Road, Suite 9, Central, LA 70818 | Planning and Zoning Commission, 6703 Sullivan Road, Central, LA 70739 | http://www.msc.fema.gov/lomc | Jul. 15, 2016 | 220060
Maine: Hancock | Town of Gouldsboro (15-01-2374P) | The Honorable Dana Rice, Chair, Town of Gouldsboro Board of Selectmen, P.O. Box 68, Prospect Harbor, ME 04669 | Town Hall, 59 Main Street, Prospect Harbor, ME 04669 | http://www.msc.fema.gov/lomc | Jun. 24. 2016 | 230283
Maryland:
Cecil | Town of Port Deposit (15-03-2779P) | The Honorable Wayne L. Tome, Sr., Mayor, Town of Port Deposit, 64 South Main Street, Port Deposit, MD 21904 | Town Hall, 64 South Main Street, Port Deposit, MD 21904 | http://www.msc.fema.gov/lomc | Aug, 1, 2016 | 240025
Cecil | Unincorporated areas of Cecil County (15-03-2779P) | The Honorable Tari Moore, Cecil County Executive, 200 Chesapeake Boulevard, Suite 2100, Elkton, MD 21921 | Cecil County Department of Planning and Zoning, 200 Chesapeake Boulevard, Suite 2300, Elkton, MD 21921 | http://www.msc.fema.gov/lomc | Aug, 1, 2016 | 240019
Harford | Unincorporated areas of Harford County (15-03-2779P) | The Honorable Barry Glassman, Harford County Executive, 220 South Main Street, Bel Air, MD 21014 | Harford County Department of Planning and Zoning, 220 South Main Street, Bel Air, MD 21014 | http://www.msc.fema.gov/lomc | Aug, 1, 2016 | 240040
Massachusetts:
Barnstable | Town of Chatham (16-01-0500P) | The Honorable Jeffrey S. Dykens, Chairman, Town of Chatham Board of Selectmen, 549 Main Street, Chatham, MA 02633 | Community Development Department, 261 George Ryder Road, Chatham, MA 02633 | http://www.msc.fema.gov/lomc | Jul. 8, 2016 | 250004
Barnstable | Town of Harwich (16-01-0500P) | The Honorable Peter S. Hughes, Chairman, Town of Harwich Board of Selectmen, 732 Main Street, Harwich, MA 02645 | Town Hall, 732 Main Street, Harwich, MA 02645 | http://www.msc.fema.gov/lomc | Jul. 8, 2016 | 250008
Mississippi:
Copiah | City of Hazlehurst (15-04-7795P) | The Honorable Henry Banks, Mayor, City of Hazlehurst, 209 South Extension Street, Hazlehurst, MS 39083 | City Hall, 209 South Extension Street, Hazlehurst, MS 39083 | http://www.msc.fema.gov/lomc | Jul. 28, 2016 | 280046
Copiah | Unincorporated areas of Copiah County (15-04-7795P) | The Honorable Perry L. Hood, President, Copiah County Board of Supervisors, P.O. Box 551, Hazlehurst, MS 39083 | Copiah County Circuit Clerk's Office, 100 Caldwell Street, Hazlehurst, MS 39083 | http://www.msc.fema.gov/lomc | Jul. 28, 2016 | 280221
Montana: Ravalli | Unincorporated areas of Ravalli County (16-08-0080P) | The Honorable Ray Hawk, Chairman, Ravalli County Board of Commissioners, 215 South 4th Street, Suite A, Hamilton, MT 59840 | Ravalli County Planning Department, 215 South 4th Street, Suite F, Hamilton, MT 59840 | http://www.msc.fema.gov/lomc | Jul. 28, 2016 | 300061
New Hampshire: Rockingham | Town of Windham (15-01-1350P) | The Honorable Joel Desilets, Chairman, Town of Windham Board of Selectmen, 3 North Lowell Road, Windham, NH 03087 | Community Development Department, 3 North Lowell Road, Windham, NH 03087 | http://www.msc.fema.gov/lomc | Jul. 14, 2016 | 330144
New Mexico: Bernalillo | Unincorporated areas of Bernalillo County (15-06-4028P) | The Honorable Art De La Cruz, Chairman, Bernalillo County Board of Commissioners, 1 Civic Plaza Northwest, Albuquerque, NM 87102 | Bernalillo County Public Works Department, 2400 Broadway Southeast, Albuquerque, NM 87102 | http://www.msc.fema.gov/lomc | Jun 7, 2016 | 350001
Oklahoma: Tulsa | City of Tulsa (15-06-0681P) | The Honorable Dewey Bartlett, Jr., Mayor, City of Tulsa, 175 East 2nd Street, 15th Floor, Tulsa, OK 74103 | Stormwater Design Department, 2317 South Jackson Avenue, Suite 302, Tulsa, OK 74103 | http://www.msc.fema.gov/lomc | Jul. 19, 2016 | 405381
Pennsylvania:
Delaware | Borough of Trainer (15-03-2447P) | The Honorable Frances Zalewski, Mayor, Borough of Trainer, 824 Main Street, Trainer, PA 19061 | Borough Hall, 824 Main Street, Trainer, PA 19061 | http://www.msc.fema.gov/lomc | Jul. 13, 2016 | 420437
Elk | Borough of Johnsonburg (14-03-2810P) | The Honorable Theresa Cherry, Mayor, Borough of Johnsonburg, 100 Main Street, Johnsonburg, PA 15845 | Borough Hall, 100 Main Street, Johnsonburg, PA 15845 | http://www.msc.fema.gov/lomc | Jun. 27, 2016 | 420443
Elk | Township of Ridgway (14-03-2810P) | The Honorable Richard Glover, Chairman, Township of Ridgway Board of Supervisors, 1537-A Montmorenci Road, Ridgway, PA 15853 | Township Municipal Building, 1537-A Montmorenci Road, Ridgway, PA 15853 | http://www.msc.fema.gov/lomc | Jun. 27, 2016 | 420445
Tennessee: Hamblen | City of Morristown (15-04-7679P) | The Honorable Gary Chesney, Mayor, City of Morristown, 100 West 1st North Street, Morristown, TN 37814 | Community Development and Planning Department, 100 West 1st North Street, Morristown, TN 37814 | http://www.msc.fema.gov/lomc | Jul. 7, 2016 | 470070
Texas:
Bexar | City of San Antonio (16-06-0036P) | The Honorable Ivy R. Taylor, Mayor, City of San Antonio, P.O. Box 839966, San Antonio, TX 78283 | Transportation and Capital Improvements Department, Storm Water Division, 1901 South Alamo Street, 2nd Floor, San Antonio, TX 78204 | http://www.msc.fema.gov/lomc | Jul. 11, 2016 | 480045
Bexar | City of San Antonio (16-06-0941P) | The Honorable Ivy R. Taylor, Mayor, City of San Antonio, P.O. Box 839966, San Antonio, TX 78283 | Transportation and Capital Improvements Department, Storm Water Division, 1901 South Alamo Street, 2nd Floor, San Antonio, TX 78204 | http://www.msc.fema.gov/lomc | Jul. 15, 2016 | 480045
Collin | City of Frisco (15-06-3867P) | The Honorable Maher Maso, Mayor, City of Frisco, 6101 Frisco Square Boulevard, Frisco, TX 75034 | Engineering Services Department, 6101 Frisco Square Boulevard, 3rd Floor, Frisco, TX 75034 | http://www.msc.fema.gov/lomc | Jul. 11, 2016 | 480134
Collin | City of McKinney (15-06-3643P) | The Honorable Brian Loughmiller, Mayor, City of McKinney, P.O. Box 517, McKinney, TX 75070 | Engineering Department, 221 North Tennessee Street, McKinney, TX 75069 | http://www.msc.fema.gov/lomc | Jul. 11, 2016 | 480135
Collin | City of McKinney (16-06-0893P) | The Honorable Brian Loughmiller, Mayor, City of McKinney, P.O. Box 517, McKinney, TX 75070 | Engineering Department, 221 North Tennessee Street, McKinney, TX 75069 | http://www.msc.fema.gov/lomc | Jul. 11, 2016 | 480135
Denton | City of Fort Worth (15-06-1721P) | The Honorable Betsy Price, Mayor, City of Fort Worth, 1000 Throckmorton Street, Fort Worth, TX 76102 | Stormwater Management Division, 1000 Throckmorton Street, Fort Worth, TX 76102 | http://www.msc.fema.gov/lomc | Jul. 1, 2016 | 480596
Denton | Town of Northlake (15-06-1721P) | The Honorable Peter Dewing, Mayor, Town of Northlake, 1400 FM 407, Northlake, TX 76247 | Public Works Department, 1400 FM 407, Northlake, TX 76247 | http://www.msc.fema.gov/lomc | Jul. 1, 2016 | 480782
Denton | Unincorporated areas of Denton County (15-06-1721P) | The Honorable Mary Horn, Denton County Judge, 110 West Hickory Street, 2nd Floor, Denton, TX 76201 | Denton County, Public Works Department, Engineering Division, 1505 East McKinney Street, Suite 175, Denton, TX 76209 | http://www.msc.fema.gov/lomc | Jul. 1, 2016 | 480774
Lamar | City of Paris (14-06-4102P) | The Honorable AJ Hashmi, Mayor, City of Paris, 135 Southeast 1st Street, Paris, TX 75460 | Engineering, Planning and Development Department, 135 Southeast 1st Street, Paris, TX 75460 | http://www.msc.fema.gov/lomc | Jul. 11, 2016 | 480427
Midland | City of Midland (15-06-4466P) | The Honorable Jerry Morales, Mayor, City of Midland, 300 North Loraine Street, Midland, TX 79701 | Engineering Department, 300 North Loraine Street, Midland, TX 79701 | http://www.msc.fema.gov/lomc | Jul. 20, 2016 | 480477
Montgomery | Unincorporated areas of Montgomery County (16-06-0123P) | The Honorable Craig Doyal, Montgomery County Judge, 501 North Thompson, Suite 401, Conroe, TX 77301 | Montgomery County Engineering Department, 501 North Thompson Street, Suite 103, Conroe, TX 77301 | http://www.msc.fema.gov/lomc | Jul. 14, 2016 | 480483
Parker | City of Weatherford (15-06-1755P) | The Honorable Dennis Hooks, Mayor, City of Weatherford, P.O. Box 255, Weatherford, TX 76086 | Department of Code Enforcement, 303 Palo Pinto Street, Weatherford, TX 76086 | http://www.msc.fema.gov/lomc | Jul. 20, 2016 | 480522
Travis | City of Austin (15-06-3816P) | The Honorable Steve Adler, Mayor, City of Austin, P.O. Box 1088, Austin, TX 78767 | Watershed Engineering Division, 505 Barton Springs Road, 12th Floor, Austin, TX 78767 | http://www.msc.fema.gov/lomc | Jul. 5, 2016 | 480624
Williamson | Unincorporated areas of Williamson County (15-06-4383P) | The Honorable Dan A. Gattis, Williamson County Judge, 710 South Main Street, Suite 101, Georgetown, TX 78626 | Williamson County Department of Infrastructure, 3151 Southeast Inner Loop, Suite B, Georgetown, TX 78626 | http://www.msc.fema.gov/lomc | Jul. 7, 2016 | 481079
Utah:
Utah | City of Alpine (16-08-0236P) | The Honorable Sheldon Wimmer, Mayor, City of Alpine, 20 North Main, Alpine, UT 84004 | Public Works Department, 181 East 200 North, Alpine, UT 84004 | http://www.msc.fema.gov/lomc | Sep. 2, 2016 | 490228
Utah | City of Spanish Fork (15-08-0248P) | The Honorable Steve Leifson, Mayor, City of Spanish Fork, 40 South Main Street, Spanish Fork, UT 84660 | Engineering Department, 40 South Main Street, Spanish Fork, UT 84660 | http://www.msc.fema.gov/lomc | Jul. 8, 2016 | 490241
Utah | Unincorporated areas of Utah County (15-08-0248P) | The Honorable Larry Ellertson, Chairman, Utah County Board of Commissioners, 100 East Center Street, Suite 2300, Provo, UT 84606 | Utah County Community Development Department, 51 South University Avenue, Suite 117, Provo, UT 84601 | http://www.msc.fema.gov/lomc | Jul. 8, 2016 | 495517
Virginia: Prince William | Unincorporated areas of Prince William County (16-03-0467P) | The Honorable Corey A. Stewart, Chairman At-Large, Prince William County, Board of Supervisors, 1 County Complex Court, Prince William, VA 22192 | Prince William County Department of Public Works, 5 County Complex Court, Prince William, VA 22192 | http://www.msc.fema.gov/lomc | Jun. 30, 2016 | 510119

[FR Doc. 2016-09821 Filed 4-26-16; 8:45 am]

BILLING CODE 9110-12-P